INTER-AMERICAN FOUNDATION

Sunshine Act Meetings

TIME AND DATE: Tuesday, May 7, 2024, 9:30 a.m.-11:30 a.m.

PLACE: Hybrid with public attendance held virtually.

STATUS: Meeting of the Board of Directors, partially closed to the public.

MATTERS TO BE CONSIDERED: Management team updates.

PORTIONS OPEN TO THE PUBLIC:

Call to Order

Overview of Meeting Rules by General Counsel

Approval of Minutes from October 10, 2023 meeting

Discussion of management team updates, including FY24 and FY25 budgets, grants management system update, core funding update, fellowships update

Adjournment

PORTIONS CLOSED TO THE PUBLIC:

Lease Procurement Matter

Personnel Matter

CONTACT PERSON FOR MORE INFORMATION: Nicole Stinson, Associate General Counsel, (202) 683-7117 or generalcounsel@iaf.gov.

For Dial-in Information contact: Nicole Stinson, Associate General Counsel, generalcounsel@iaf.gov.

The Inter-American Foundation is holding this meeting under the Government in the Sunshine Act, 5 U.S.C. 552b and 22 CFR 1004.

Natalia Mandrus,
Associate General Counsel.

[FR Doc. 2024-09346 Filed 4-30-24; 8:45 am]

BILLING CODE 7025-01-P